DEPARTMENT OF COMMERCE

National Oceanic and Atmospheric Administration

Request for Information; Implementation Plan for the National Strategy for Mapping, Exploring, and Characterizing the United States Exclusive Economic Zone

AGENCY: Office of Oceanic and Atmospheric Research (OAR), National Oceanic and Atmospheric Administration (NOAA).

ACTION: Notice of public comment.

SUMMARY: On behalf of the Ocean Policy Committee, Ocean Science and Technology Subcommittee, and the Office of Science and Technology Policy (OSTP) and the Council on Environmental Quality (CEQ) as Co-Chairs of the Ocean Policy Committee, the National Ocean Mapping, Exploration, and Characterization Council (NOMEC Council) requests input from all interested parties on the development of an Implementation Plan for the National Strategy for Mapping, Exploring, and Characterizing the United States Exclusive Economic Zone (U.S. EEZ)(“National Strategy”). Through this Request for Information (RFI), the NOMEC Council seeks input from the public to recommend exploration and characterization priorities to be included in the Implementation Plan for the National Strategy.

DATES: Comments must be received by October 30, 2020 November 12, 2020.

ADDRESSES: A copy of the National Strategy may be downloaded or viewed at: https://www.whitehouse.gov/wp-content/uploads/2020/01/20200611-FINAL-STRATEGY-NOMEC-Sec.-2.pdf Responses should be submitted via email to nomec.execsec@noaa.gov. Include “Public Comment on Exploration Priorities for the Implementation Plan” in the subject line of the message. All personal identifying information (e.g., name, address, etc.), confidential business information, or otherwise sensitive information submitted voluntarily by the sender is publicly accessible. NOAA will accept anonymous comments. Clearly indicate which section and page number, if applicable, submitted comments pertain to. All submissions must be in English. Please note that the U.S. Government will not pay for responsible preparation, or for the use of any information contained in the response.

Instructions: Response to this RFI is voluntary. Respondent needs not reply to all questions listed. For all submissions, clearly indicate which questions are being answered. Email attachments will be accepted in plain text, Microsoft Word, or Adobe PDF formats only. Each individual or institution is requested to submit only one response. OSTP may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: National Ocean Mapping, Exploration, and Characterization (NOMEC) Council Co-Chairs; Dr. Alan Leonardi, NOAA, alan.leonardi@noaa.gov, 301-734-1016; RDML Shepard Smith, NOAA, shep.smith@noaa.gov, 202-510-5561; Dr. John Haines, USGS, jhaines@usgs.gov, 703-648-6422.

SUPPLEMENTARY INFORMATION: Pursuant to the Presidential Memorandum, Ocean Mapping of the United States Exclusive Economic Zone and the Shoreline and Nearshore of Alaska, 84 FR 64699 (Nov. 19, 2020), the National Ocean Mapping, Exploration, and Characterization Council (NOMEC Council), on behalf of the Director of the OSTP and the Chairman of the CEQ, in their capacity as Co-Chairs of the Ocean Policy Committee, working through its Ocean Science and Technology Subcommittee and in coordination with the Administrator of NOAA, are developing an Implementation Plan for the National Strategy. The NOMEC Council has commenced development of the Implementation Plan and is soliciting public input through this RFI to obtain information from a wide range of stakeholders, including academia, private industry, and other relevant organizations and institutions. The public input provided in response to this RFI will inform the NOMEC Council as it continues to identify strategic priorities for Exploration and Characterization within the Implementation Plan.

Questions To Inform Development of the Implementation Plan

Through this RFI, the National Ocean Mapping, Exploration, and Characterization Council seeks responses to the following questions to inform the Exploration and Characterization priorities for an Implementation Plan for the National Strategy for Ocean Mapping, Exploration, and Characterization.

1. NOMEC Strategy Goal 3.1 “Identify Strategic Priorities” describes the need for strategic ocean exploration and characterization priorities and lists some examples. What do you feel are the most important strategic national priorities for exploration and characterization efforts in the deep sea (depth >40 m)? These can be specific geographic areas within the U.S. EEZ or thematic/topical issue priorities.

2. What are the most important questions for exploration and characterization to address?

3. What are the most important data variables that need to be measured, and what are the most valuable physical samples to collect; to conduct baseline exploration and characterization?

4. What novel or established tools, platforms, and technologies could advance our capability to explore, and characterize the U.S. EEZ more efficiently and effectively? To the extent innovative capabilities already exist, but are not being effectively used, what are the barriers to adopting them? How can these barriers be overcome?

5. Deep waters within the U.S. EEZ host a wide variety of habitats and geomorphological features (e.g., continental shelves, canyons, seamounts, trenches, abyssal plains, and mesopelagic and bathypelagic zones of the water column). Which ones of these do you think are most important to explore to address the priority questions you identified above?

6. How can artificial intelligence and machine learning be used to guide planning, execution, and analysis of exploration and characterization activities?

7. How should the data generated by implementation of the Strategy be managed so that it is most accessible and useful (file formats, compatibility, etc.) to public and private sectors?

Dated: September 24, 2020.
David Holst,
Chief Financial and Administrative Officer, Office of Oceanic and Atmospheric Research, National Oceanic and Atmospheric Administration.

[FR Doc. 2020-22413 Filed 10-9-20; 8:45 am]

BILLING CODE 3510-KD-P